DEPARTMENT OF THE INTERIOR

Fish and Wildlife Service

Notice of Availability of the Draft Comprehensive Conservation Plan and Environmental Assessment for San Joaquin River National Wildlife Refuge

AGENCY: Fish and Wildlife Service, Interior.

ACTION: Notice of availability.

SUMMARY: The U.S. Fish and Wildlife Service (Service) announces that a Draft Comprehensive Conservation Plan and Environmental Assessment (Draft CCP/EA) for San Joaquin River National Wildlife Refuge (Refuge) is available for review and comment. This Draft CCP/EA, prepared pursuant to the National Wildlife Refuge System Administration Act, as amended, and the National Environmental Policy Act of 1969, describes the Service's proposal for managing the Refuge for the next 15 years. The draft compatibility determinations for several public uses are also available for review with the Draft CCP/EA.

DATES: Written comments must be received at the address below by July 24, 2006.

ADDRESSES: Comments on the Draft CCP/EA should be addressed to: Kim Forrest, Project Leader, San Joaquin River National Wildlife Refuge, 947-C West Pacheco Boulevard, Los Banos, California 93635. Comments may also be submitted via electronic mail to FW8PlanComments@fws.gov. Please type “San Joaquin River CCP” in the subject line.

FOR MORE INFORMATION CONTACT: Kim Forrest, Project Leader, San Joaquin River National Wildlife Refuge, 947-C West Pacheco Boulevard, Los Banos, California 93635 or Mark Pelz, Chief, Refuge Planning, CA/NV Operations Office, 2800 Cottage Way, W-1832, Sacramento, CA 95825, phone (916) 414-6500.

SUPPLEMENTARY INFORMATION: Copies of the Draft CCP/EA may be obtained by writing to the U.S. Fish and Wildlife Service, Attn: Mark Pelz, CA/NV Refuge Planning Office, 2800 Cottage Way, W-1832, Sacramento, CA 95825. Copies of the Draft CCP/EA may be viewed at this address or at San Joaquin River National Wildlife Refuge, 947-C West Pacheco Boulevard, Los Banos, CA. The Draft CCP/EA will also be available for viewing and downloading online at http://www.fws.gov/pacific/planning. Printed documents will also be available for review at the following libraries: Los Banos Branch Library, 1312 7th St, Los Banos, CA 93635; and Modesto Library 1500 “I” Street, Modesto, CA 95354.

Background

The San Joaquin River NWR was established in 1987 primarily to protect and manage wintering habitat for Aleutian Canada geese, a federally listed endangered species. Since that time, the Refuge's focus has expanded to include protecting other sensitive species and restoring natural habitats and ecological processes. This Refuge and its management have been important factors in the recovery of the Aleutian Canada goose and its removal in 2001 from the Threatened and Endangered Species List. The Refuge is Located just west of Modesto, California.

Purpose and Need for Action

The purpose of the CCP is to provide a coherent, integrated set of management actions to help attain the Refuges' establishing purposes, and vision, goals, and objectives. The CCP identifies the Refuges' role in support of the mission of the National Wildlife Refuge System and describes the Service's management actions.

Alternatives

The Draft CCP/EA identifies and evaluates four alternatives for managing the Refuge for the next 15 years. The proposed action is to implement Alternative D as described in the EA. Alternative D best achieves the Refuges' purposes, vision, and goals; contributes to the Refuge System mission; addresses the significant issues and relevant mandates; and is consistent with principles of sound fish and wildlife management.

In Alternative A (No Action), existing management programs, which focus on Aleutian Canada goose, would continue unchanged. The Service would also continue the current visitor services program, which is limited to wildlife photography and observation from a platform. Management for the benefit of Aleutian Canada geese is also central to the other three Alternatives. However, they also expand Refuge management for the benefit of additional wildlife and habitats. Alternative B places greater emphasis on wetland restoration and management and would expand visitor services for all priority public uses, including fishing and hunting. Alternative C focuses on restoration and management of riparian habitats and providing non-consumptive wildlife-dependant recreation opportunities. Alternative D, the preferred alternative, includes a balance of wetland and riparian restoration and management and expands opportunities for all priority public uses, including fishing and hunting.

Public Comments

After the review and comment period ends for this Draft CCP/EA, comments will be analyzed by the Service and addressed in the Final CCP. All comments received from individuals, including names and addresses, become part of the official public record and may be released. Requests for such comments will be handled in accordance with the Freedom of Information Act, the Council on Environmental Quality's NEPA regulations and other Service and Departmental policies and procedures.

Dated: June 16, 2006.
Ken McDermond,
Acting Manager, California/Nevada Operations, Sacramento, California.

[FR Doc. E6-9848 Filed 6-21-06; 8:45 am]

BILLING CODE 4310-55-P